DEPARTMENT OF ENERGY

Unconventional Resources Technology Advisory Committee

AGENCY: Office of Fossil Energy, Department of Energy.

ACTION: Notice of open meeting.

SUMMARY: This notice announces a meeting of the Unconventional Resources Technology Advisory Committee. The Federal Advisory Committee Act (Pub. L. 92-463, 86 Stat. 770) requires that public notice of this meeting be announced in the Federal Register.

DATES: Wednesday, January 18, 2012; 8 a.m.-5 p.m. (CST).

ADDRESSES: Hilton Houston North, 12400 Greenspoint Drive, Houston, Texas 77060.

FOR FURTHER INFORMATION CONTACT: Elena Melchert, U.S. Department of Energy, Office of Oil and Natural Gas, Washington, DC 20585. Phone: (202) 586-5600.

SUPPLEMENTARY INFORMATION: Purpose of the Committee: The purpose of the Unconventional Resources Technology Advisory Committee is to provide advice to the Secretary of Energy on development and implementation of programs related to unconventional natural gas and other petroleum resources; and to provide comments for the Department of Energy Annual Plan per requirements of the Energy Policy Act of 2005, Title IX, Subtitle J, Section 999D.

Tentative Agenda

January 18, 2012

7:30 a.m.-8 a.m.: Registration.

8 a.m.-noon: Call to Order, Welcome, Introductions, Opening Remarks, Overview of the Section 999 Research Portfolio (Unconventional Resources, Small Producers, and NETL Complementary Research).

1 p.m.-4:45 p.m.: Overview of Draft 2012 Annual Pla.

4:45 p.m.-5 p.m.: Public Comment.

5 p.m.: Adjourn.

Public Participation: The meeting is open to the public. The Designated Federal Officer and the Chairman of the Committee will lead the meeting for the orderly conduct of business. If you would like to file a written statement with the Committee, you may do so either before or after the meeting. If you would like to make oral statements regarding any of the items on the agenda, you should contact Elena Melchert at the telephone number listed above. You must make your request for an oral statement at least three business days prior to the meeting, and reasonable provisions will be made to include all who wish to speak. Public comment will follow the three minute rule.

Minutes: The minutes of this meeting will be available for public review and copying within 60 days at: http://www.fossil.energy.gov/programs/oilgas/advisorycommittees/UnconventionalResources.html.

Issued at Washington, DC, on December 7, 2011.
LaTanya Butler,
Acting Deputy Committee Management Officer.

[FR Doc. 2011-32159 Filed 12-14-11; 8:45 am]

BILLING CODE 6450-01-P